DEPARTMENT OF DEFENSE

Department of the Army

Corps of Engineers

Intent To Prepare an Environmental Impact Statement for Sand and Gravel Dredging on the Allegheny and Ohio Rivers, Pennsylvania

AGENCY: U.S. Army Corps of Engineers, DOD.

ACTION: Notice of intent.

SUMMARY: The U.S. Army Corps of Engineers, Pittsburgh District (Corps), will prepare and circulate a draft Environmental Impact Statement (EIS) pursuant to the National Environmental Policy Act and 40 CFR 1500 through 1508. The overall purpose of the EIS is to evaluate the environmental, economic, and social consequences related to the issuance of Section 10 and 404 Permits for Commercial Sand and Gravel Dredging in the Allegheny and Ohio Rivers in Pennsylvania. The action area studied includes River Miles 0 to 69.5 on the Allegheny River and River Miles 0 to 40 on the Ohio River. The Corps and Pennsylvania Department of Environmental Protection (PADEP) issue permits for commercial dredging activities.

FOR FURTHER INFORMATION CONTACT: Please address questions or comments regarding this notice to Mr. Albert H. Rogalla, CELRP-OR-F, Pittsburgh District, Corps of Engineers, William S. Moorhead Federal Building, 1000 Liberty Avenue, Pittsburgh, PA 15222-4186. Submit electronic comments to Irp.sandgraveleis@usace.army.mil

SUPPLEMENTARY INFORMATION: a. The commercial dredging companies seek extensions of their Corps Dredging Permits and PADEP Water Obstruction and Encroachment Permits, and PADEP Sand and Gravel License Agreements. These permits may be issued, suspended or modified pending completion of the NEPA process.

b. The purpose of this action is the issuance of permits to extract sand and gravel from the Allegheny and Ohio Rivers for commercial sale. This material supports diverse infrastructure and construction requirements for a variety of customers in the region.

c. Alternatives to be assessed are the complete cessation of commercial river dredging within the study area following denial of permit extensions and the expiration of existing permits held by the applicants; obtaining sand and gravel from the Allegheny and Ohio Rivers by commercial dredging by granting and extending the Department of the Army Section 10 and 404 permits to commercial sand and gravel companies for the removal of sand and gravel between river miles 0-69.5 on the Allegheny River and between river miles 0-40 on the Ohio River; and using land-based operations or importation of sand and gravel from other locations to meet the regional need for this material, implying complete cessation of commercial river dredging (other than for navigational purposes) and denial to extend existing permits held by the applicants.

d. The Corps has held numerous Stakeholder meetings between 1996 and 2000 in which the scope and direction of the study were discussed. State agencies; federal agencies; a public interest organization; and sand and gravel companies directly impacted by the permit request participated in these discussions.

e. Interested parties are encouraged to send written or electronic comments concerning issues to be addressed, required studies, alternatives, procedures or other related matters or requests for information regarding the proposed study process to the point-of-contact above. All comments and information requests should be postmarked no later than 30 days after this Notice of Intent is published in the Federal Register.

f. The EIS will assess the impacts of sand and gravel dredging on various ecological resources including aquatic resources (fish, mussels, threatened and endangered species, and water quality), hydrology, noise, and cultural resources.

g. Appendix B, 33 CFR Part 325, provides that the Corps District Engineer may require the Permit Applicant and/or his/her consultant to provide relevant information for the Corps use in preparing an EIS. The applicants are collecting information to provide to the Corps. Prior to preparation of the Draft EIS, however, the Corps is required to solicit public input into the process.

h. The Corps will schedule a public hearing after the Draft EIS is issued.

i. The Draft EIS is expected to be available to the public no later than June 2002.

Raymond K. Scrocco,
Colonel, Corps of Engineers, District Engineer.

[FR Doc. 02-129 Filed 1-3-02; 8:45 am]

BILLING CODE 3701-85-M